DEPARTMENT OF EDUCATION

National Assessment Governing Board

Committee and Quarterly Board Meetings

AGENCY: National Assessment Governing Board, Department of Education.

ACTION: Notice of open and closed meetings.

SUMMARY: This notice sets forth the agenda, time, and instructions to access the National Assessment Governing Board's (hereafter referred to as Governing Board or Board) standing committee meetings and quarterly Board meeting. This notice provides information about the meetings to members of the public who may be interested in attending the meetings and/or providing written comments related to the work of the Governing Board. The meetings will be held either in person and/or virtually, as noted below. Members of the public must register in advance to attend the virtual meetings. A registration link will be posted on www.nagb.gov five business days prior to each meeting.

DATES: The Quarterly Board Meeting will be held on the following dates:

• August 2, 2023, from 4:30 p.m. to 6 p.m., EDT.

• August 3, 2023, from 8:30 a.m. to 6 p.m., EDT.

• August 4, 2023, from 8:30 a.m. to 3 p.m., EDT.

ADDRESSES: Westin Arlington, 801 North Glebe Rd., Arlington, VA 22203.

FOR FURTHER INFORMATION CONTACT: Munira Mwalimu, Executive Officer/Designated Federal Official (DFO) for the Governing Board, 800 North Capitol Street NW, Suite 825, Washington, DC 20002, telephone: (202) 357-6906, fax: (202) 357-6945, email: Munira.Mwalimu@ed.gov.

SUPPLEMENTARY INFORMATION:

Notice of the meetings is required under 5 U.S.C. chapter 10 (Federal Advisory Committees).

Statutory Authority and Function: The Governing Board is established under the National Assessment of Educational Progress Authorization Act, (20 U.S.C. 9621). Information on the Governing Board and its work can be found at www.nagb.gov.

The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP reports.

Standing Committee Meetings

The Governing Board's standing committees will meet to conduct regularly scheduled work. Standing committee meeting agendas and meeting materials will be posted on the Governing Board's website, www.nagb.gov, no later than five business days prior to the meetings. For the virtual standing committee meetings, a registration link will be posted on www.nagb.gov and will be accessible five business days prior the meetings. Registration is required to join the meetings virtually. Minutes of prior standing committee meeting are available at https://www.nagb.gov/governing-board/quarterly-board-meetings.html.

Standing Committee Meetings

Friday, July 21, 2023

Reporting & Dissemination Committee (Virtual Meeting)

1 p.m.-3 p.m. (EDT) Open Session

The Reporting and Dissemination Committee will meet in open session on Friday, July 21, 2023, from 1 p.m. to 3 p.m., to receive a briefing on the release of the 2023 Long-Term Trend results for 13-year-olds, which occurred in June 2023, to review extant core contextual variables for the 2028 administration of NAEP, and to discuss the organization and format of the Nation's Report Card website.

Monday, July 24, 2023

Nominations Committee (Virtual Meeting)

5 p.m.-5:10 p.m. (EDT), Closed Session

5:10 p.m.-6 p.m. (EDT) Open Session

The Nominations Committee will meet in closed session on Monday, July 24, 2023, from 5 p.m. to 5:10 p.m., to receive an update on the member appointments for terms beginning October 1, 2023. These discussions pertain solely to internal personnel rules and practices of an agency and information of a personal nature where disclosure would constitute a clearly unwarranted invasion of personal privacy. As such, the discussions are protected by exemptions 2 and 6 of the Government Sunshine Act, 5 U.S.C. 552b(c). From 5:10 p.m. to 6 p.m., the committee will meet in open session to receive a briefing on outreach plans for member vacancies for terms that begin October 1, 2024.

Wednesday, August 2, 2023

Executive Committee (In-Person Meeting)

3:30 p.m.-4:20 p.m. (EDT), Open Session

The Executive Committee will meet in open session on Wednesday, August 2, 2023, from 3:30 p.m. to 4:20 p.m., to discuss the nomination of the Vice Chair, to receive a briefing on the financial audit of the Governing Board, and to discuss a recommendation on the Technology and Engineering Literacy Assessment.

Friday, August 4, 2023

Assessment Development Committee (In-Person Meeting)

8:30 a.m.-10:25 a.m. (EDT), Open Session

10:25 a.m.-11 a.m. (EDT), Closed Session

The Assessment Development Committee will meet in open session on Friday, August 4, 2023, from 8:30 a.m. to 10:20 a.m., to review existing NAEP Reading and Mathematics Grade 12 contextual variables, to receive a project update on the 2028 NAEP Science Assessment Framework, and to discuss the options for the next administration of the NAEP Writing Assessment. Following a short break from 10:20 a.m. to 10:25 a.m., the Assessment Development Committee will meet in two closed sessions from 10:25 a.m. to 11:00 a.m. From 10:25 a.m. to 10:40 a.m., the committee will review the 2024 NAEP Reading flagged assessment items. These items have not been released to the public. From 10:40 a.m. to 11 a.m., the committee will continue in closed session to discuss the draft statement of work for the Social Studies Content Advisory Group. Public disclosure of this confidential information would significantly impede implementation of the NAEP assessment program if conducted in open session. Such matters are protected by exemption 9(B) of the Government Sunshine Act, 5 U.S.C. 552b(c).

Committee on Standards, Design and Methodology (In-Person Meeting)

9 a.m.-11 a.m. (Open Session)

The Committee on Standards, Design and Methodology will meet in open session on Friday, August 4, 2023, from 9:00 a.m. to 11:00 a.m., to discuss the NAEP modernization and steps towards device agnostic and the utility of effect sizes, and to receive an update on the Achievement Level Communications plan.

Quarterly Governing Board Meeting

The plenary sessions of the Governing Board's August 2023 quarterly meeting will be held on the following dates and times:

Wednesday, August 2, 2023

Open Meeting: 4:30 p.m.-6 p.m. (In-Person Meeting)

Thursday, August 3, 2023

Open Meeting: 8:30 a.m.-9:15 a.m.; 11:45 a.m.-6 p.m. (Hybrid Meeting)

Closed Meeting: 9:15 a.m.-10 a.m.

Open Meeting: 11:45 a.m.-6 p.m. (Hybrid Meeting)

Friday, August 4, 2023

Open Meeting: 8:30 a.m.-3 p.m. (Hybrid Meeting)

On Wednesday, August 2, 2023, the plenary session of the Governing Board meeting will convene in open session from 4:30 p.m. to 6 p.m. to discuss the implications for Artificial Intelligence (AI) for teaching, learning, and the workforce.

On Thursday, August 3, 2023, the Governing Board will convene in open session from 8:30 a.m. to 9:05 a.m. From 8:30 a.m. to 8:45 a.m., Beverly Perdue, Chair of the Governing Board, will welcome members, followed by a motion to approve the August 3-4, 2023, quarterly Governing Board meeting agenda and minutes from the May 18-19, 2023, Governing Board meeting. From 8:45 a.m. to 9:05 a.m., Lesley Muldoon, Executive Director of the Governing Board, will provide updates members on the Board's work.

Following a ten-minute break, members will meet in closed session from 9:15 a.m. to 10:00 a.m. to receive a briefing on the NAEP Budget from and NAEP Modernization plans and their impact on the NAEP Assessment schedule and contract actions. This session must be closed to maintain the integrity of the federal budgeting and acquisition processes. Public disclosure of this confidential information would significantly impede implementation of the NAEP assessment program if conducted in open session. Such matters are protected by exemption 9(B) of the Government Sunshine Act, 5 U.S.C. 552b(c).

From 11:45 a.m. to 1:30 p.m., the Board will meet in open session to discuss its priorities for the NAEP Assessment Schedule. Following a break, the Board will meet in small groups from 1:45 p.m. to 3:35 p.m. to discuss the assessment schedule, and debrief the small group discussions from 3:35 p.m. to 4 p.m. The Board will receive and discuss recommendation on the Future of the NAEP Technology and Engineering Literacy Assessment (TEL) from 4 p.m. to 4:45 p.m. From 4:45-5:15 p.m. members will receive updates on the work of its standing committees. From 5:15 p.m. to 6 p.m. Governing Board members will engage in an open discussion on general topics of interest. The August 3, 2023, session of the Governing Board meeting will adjourn at 6 p.m.

On Friday, August 4, 2023, the Board will convene in open session from 11:15 a.m. to 3:00 p.m. From 11:15 a.m. to 12:45 p.m., the Board will discuss the proposed 2028 NAEP Science Framework, followed by a session on the opportunities and challenges for AI and Large-Scale Assessment from 12:45 p.m. to 2:15 p.m. The Board will take action on the NAEP Technology and Engineering Literacy (TEL) Assessment from 2:15 p.m. to 2:25 p.m., and will take action on a Linking Studies Resolution from 2:25 p.m. to 2:35 p.m. From 2:35 p.m. to 3 p.m., members whose terms have expired will provide farewell remarks. The August 4, 2023, session of the Governing Board meeting will adjourn at 3 p.m.

Instructions for Participating in the Meetings

Registration: Members of the public may attend the August 2, 2023, meeting in-person and may attend the August 3 and August 4, 2023, meetings either in person or virtually. A link to register for virtual attendance for the open sessions and instructions for how to register will be posted on the Governing Board's website at www.nagb.gov no later than five business days prior to the meeting. Registration is required to join the meeting virtually.

Public Comment: Written comments related to the work of the Governing Board and its committees may be submitted electronically or in hard copy to the attention of the Executive Officer/DFO via email at Munira.Mwalimu@ed.gov no later than 10 business days prior to the meeting. Written comments should reference the relevant agenda item.

Access to Records of the Meeting: Pursuant to 5 U.S.C. 1009, the public may inspect the meeting materials at www.nagb.gov, which will be posted no later than five business days prior to each meeting. The public may also inspect the meeting materials and other Governing Board records at 800 North Capitol Street NW, Suite 825, Washington, DC 20002, by emailing Munira.Mwalimu@ed.gov to schedule an appointment. The official verbatim transcripts of the open meeting sessions will be available for public inspection no later than 30 calendar days following each meeting and will be posted on the Governing Board's website. Requests for the verbatim transcriptions may be made via email to the DFO.

Reasonable Accommodations: The meeting location is accessible to individuals with disabilities. If you will need an auxiliary aid or service to participate in the meeting (e.g., interpreting service, assistive listening device, or materials in an alternate format), notify the DFO listed in this notice no later than ten working days prior to each meeting date.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III, section 301—National Assessment of Educational Progress Authorization Act (20 U.S.C. 9621).

Lesley Muldoon,
Executive Director, National Assessment Governing Board (NAGB), U.S. Department of Education.

[FR Doc. 2023-15256 Filed 7-18-23; 8:45 am]

BILLING CODE 4000-01-P